NATIONAL SCIENCE FOUNDATION

Proposal Review Panel for Physics; Notice of Meeting

In accordance with the Federal Advisory Committee Act (Pub. L. 92-463, as amended), the National Science Foundation (NSF) announces the following meeting:

Name and Committee Code: CMS Pre-FDR Review Panel for the Division of Physics (1208) Reverse Site Visit.

Date and Time: January 31, 2019; 8:00 a.m.-5:30 p.m.

Place: National Science Foundation, 2415 Eisenhower Avenue, Alexandria, VA 22314, Conference Room E 2030.

Type of Meeting: Part-Open.

Contact Person: Mark Coles, Senior Advisor for Facilities, Division of Physics, National Science Foundation, 2415 Eisenhower Avenue, Room W9219, Alexandria, VA 22314; Telephone: (703) 292-4432.

Purpose of Meeting: Reverse Site visit to give a status presentation with responses from a review panel an evaluation of the progress of the CMS Pre-FDR Review Panel for the Division of Physics at the National Science Foundation.

Agenda

January 31, 2019

8:00 a.m.-8:30 a.m. Executive Session with the review panel—Closed

8:30 a.m.-12:00 p.m. Presentations by Compact Muon Solenoid collaboration

12:00 p.m.-1:00 p.m. Lunch

1:00 p.m.-3:30 p.m. Presentations by Compact Muon Solenoid collaboration

3:30 p.m.-5:00 p.m. Panel deliberations—Closed

5:00 p.m.-5:30 p.m. Closeout presentation by the review panel—Closed

Reason for Closing: Topics to be discussed and evaluated during closed portions of the reverse site review will include information of a proprietary or confidential nature, including technical information and information on personnel. These matters are exempt under 5 U.S.C. 552b(c), (4) and (6) of the Government in the Sunshine Act.

Dated: December 8, 2018.
Crystal Robinson,
Committee Management Officer.

[FR Doc. 2018-26951 Filed 12-12-18; 8:45 am]

BILLING CODE 7555-01-P